DEPARTMENT OF THE INTERIOR

Bureau of Land Management

[LLCO921000-L13200000-EL0000, COC-74235]

Notice of Invitation To Participate; Exploration for Coal in Colorado; License Application COC-74235

AGENCY: Bureau of Land Management, Interior.

ACTION: Notice.

SUMMARY: All interested parties are hereby invited to participate with Bowie Resources, LLC, on a pro rata cost-sharing basis, in a program for the exploration of coal deposits owned by the United States of America in lands located in Delta County, Colorado.

DATES: Any party electing to participate in this exploration program must send written notice to Bowie Resources, LLC and the Bureau of Land Management (BLM) as provided in the ADDRESSES section below by August 30, 2010 or 10 calendar days after the last publication of this notice in the Delta County Independent newspaper, whichever is later. This notice will be published once a week for two consecutive weeks in the Delta County Independent, Paonia, Colorado.

ADDRESSES: The exploration plan, as submitted by Bowie Resources, LLC is available for review in the BLM, Colorado State Office, 2850 Youngfield Street, Lakewood, Colorado 80215 and the BLM, Uncompahgre Field Office, 2505 S. Townsend Avenue, Montrose, Colorado 81401 during normal business hours (9 a.m. to 4 p.m.), Monday through Friday. Any party electing to participate in this exploration program shall notify the BLM State Director, in writing, at the BLM Colorado State Office, 2850 Youngfield Street, Lakewood, Colorado 80215 and Bowie Resources, LLC, Attn: Art Etter, P.O. Box 483, Paonia, Colorado 81428. The written notice must include a justification for participation and any recommended changes in the exploration plan with specific reasons for such changes.

FOR FURTHER INFORMATION CONTACT: Kurt M. Barton at 303-239-3714, Kurt_Barton@blm.gov; or Desty Dyer at 970-240-5302, Desty_Dyer@blm.gov.

SUPPLEMENTARY INFORMATION: The authority for the notice is section 2(b) of the Mineral Leasing Act of 1920, as amended by section 4 of the Federal Coal Leasing Amendments Act of 1976 and the regulations adopted as 43 CFR part 3410. The purpose of the exploration program is to gain additional geologic knowledge of the coal underlying the exploration area for the purpose of assessing the reserves contained in a potential lease. The Federal coal resources are located in Delta County, Colorado.

T. 12 S., R. 91 W., 6th P.M.,

Sec. 29, S1/2;

Sec. 31, Lots 12 to 26, inclusive;

Sec. 32, All;

Sec. 33, W1/2NW1/4.

T. 12 S., R. 92 W., 6th P.M.

Sec. 36, S1/2.

T. 13 S., R. 91 W., 6th P.M.

Sec. 5, Lot 3, inclusive, N1/2SW1/4, and SW1/4SW1/4.

These lands contain 2,200 acres, more or less.

The proposed exploration program will be conducted pursuant to an exploration plan to be approved by the BLM. The plan may be modified to accommodate the legitimate exploration needs of persons seeking to participate.

Authority: 43 CFR 3410.2-1(c)(1).

Helen Hankins,
State Director.

[FR Doc. 2010-18757 Filed 7-29-10; 8:45 am]

BILLING CODE 4310-JB-P